DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Voluntary Partner Surveys in the Health Resources and Services Administration—(OMB No. 0915-0212)—Extension

In response to Executive Order 12862, the Health Resources and Services Administration (HRSA) conducts voluntary customer surveys of its “partners” to assess strengths and weaknesses in program services. An extension of a generic approval is being requested from OMB to conduct these customer or partner satisfaction surveys. HRSA partners are typically State or local governments, health care facilities, health care consortia, health care providers, and researchers.

Partner surveys to be conducted by HRSA might include, for example, brief surveys of grantees to determine satisfaction with a technical assistance contractor, or in-class evaluation forms completed by providers who receive training from HRSA grantees, to measure satisfaction with the training experience. Results of these surveys will be used to plan and redirect resources and efforts as needed to improve service. Focus groups may also be used to potential method to obtain input on services and training. Focus groups, in-class evaluation forms, mail surveys, and telephone surveys are expected to be the preferred methodologies.

The estimated response burden is as follows:

Instrument | Number of respondents | Responses per respondent | Hours per response | Total hour burden
In-class evaluations | 40,000 | 1 | .05 | 2,000
Surveys | 12,000 | 1 | .25 | 3,000
Focus groups | 50 | 1 | 1.5 | 75
Total | 52,050 | 1 | .10 | 5,075

Written comments and recommendations concerning the proposed information collection should be sent within 30 days of this notice to: John Kraemer, Human Resources and Housing Branch, Office of Management and Budget, New Executive Office Building, Room 10235, Washington, DC 20503.

Dated: March 20, 2006.
Tina M. Cheatham,
Director, Division of Policy Review and Coordination.

[FR Doc. E6-4217 Filed 3-23-06; 8:45 am]

BILLING CODE 4165-15-P